NUCLEAR REGULATORY COMMISSION

[NRC-2010-0355; Order EA-11-180; Docket Nos. 70-7003, 70-7004; License Nos. SNM-7003, SNM-2011]

In the Matter of USEC Inc., American Centrifuge Lead Cascade Facility, and American Centrifuge Plant; Order Extending the Date by Which the Direct Transfer of Licenses Is To Be Completed

I

USEC Inc. (USEC) is the holder of materials licenses SNM-7003 and SNM-2011 for the American Centrifuge Lead Cascade Facility (Lead Cascade) and American Centrifuge Plant (ACP), respectively, which authorize the licensee to: (1) Possess and use source and special nuclear material at the Lead Cascade at the Portsmouth Gaseous Diffusion Plant site in Piketon, Ohio, in accordance with materials license number SNM-7003; and (2) construct and operate a gas centrifuge uranium enrichment facility (the ACP) at the Portsmouth Gaseous Diffusion Plant site in Piketon, Ohio, in accordance with materials license number SNM-2011.

II

The U.S. Nuclear Regulatory Commission's (NRC) Order, dated February 10, 2011, approved the direct transfer of the licenses of the above facilities from USEC to the limited liability company American Centrifuge Operating, LLC (ACO), pursuant to Sections 161(b), 161(i), 161(o) and 184 of the Atomic Energy Act, as amended; 42 United States Code (U.S.C.) 2201(b), 2201(i), and 2234; and Title 10 Code of Federal Regulations (10 CFR) parts 30.34(b), 40.46, “Inalienability of Licenses,” and 70.36, “Inalienability of Licenses.” By its terms, the February 10, 2011, Order will become null and void if the license transfers are not completed within 180 days from February 10, 2011 (i.e., by August 9, 2011). However, the February 10 Order further states that upon written application and for good cause shown, the 180-day period may be extended by further Order.

III

By letter dated July 22, 2011, as supplemented by electronic communication dated August 1, 2011, USEC submitted a request to extend the date by which the license transfers must be completed from August 9, 2011, to February9, 2012. USEC stated that it has been working diligently with the Department of Energy over the past several months to conclude the review process for USEC's loan guarantee application, but would not be able to complete this process by August 9, 2011.

USEC states that there have been no changes in the information and technical and financial qualifications presented in its September 10, 2010, request to transfer the licenses. USEC states that the basis for granting that request has, thus, not changed and remains valid. The NRC staff notes that its basis for approving the transfers of USEC's licenses for the Lead Cascade and the ACP from USEC to ACO is documented in its Safety Evaluation Report (SER) supporting the February 10 Order. The NRC staff concluded that the basis for approval has not changed since the issuance of the February 10 Order.

The NRC staff has considered the submittal of July 22, 2011, as supplemented by electronic communication dated August 1, 2011, and has determined that good cause has been shown to extend, until February 9, 2012, the date by which the license transfers must be completed.

IV

Accordingly, pursuant to Sections 161b, 161i, 161o, and 184 of the Atomic Energy Act of 1954, as amended, 42 U.S.C. 2201(b), 2201(i), and 2234; and 10 CFR 30.34(b), 40.46, “Inalienability of Licenses,” and 70.36, “Inalienability of Licenses,” It Is Hereby Ordered that the date by which the license transfers described above must be completed is extended to February 9, 2012. If the proposed direct transfer of licenses is not completed by February 9, 2012, this Order and the February 10 Order shall become null and void. However, upon written application and for good cause shown, the February 9, 2012, date may be extended by further Order.

This Order is effective upon issuance. The Order of February 10, 2011, as modified by this Order, remains in full force and effect.

For further details with respect to this Order, see the submittal dated July 22, 2011 (Agencywide Documents Access and Management System (ADAMS) Accession No. ML11210B497), as supplemented by electronic communication dated August 1, 2011 (ADAMS Accession No. ML11213A282), and the SER documenting NRC's staff evaluation of USEC's submittal dated July 22, 2011 (ADAMS Accession No. ML112140088), which may be examined—and/or copied for a fee—at the NRC's Public Document Room, located at One White Flint North, 11555 Rockville Pike (First Floor), Rockville, MD 20852; and accessible online in the NRC Library at http://www.nrc.gov/reading-rm/adams.html.

Dated at Rockville, Maryland, this 8th day of August 2011.
For the U.S. Nuclear Regulatory Commission.
Catherine Haney,
Director, Office of Nuclear Material Safety and Safeguards.

[FR Doc. 2011-20792 Filed 8-15-11; 8:45 am]

BILLING CODE 7590-01-P